ENVIRONMENTAL PROTECTION AGENCY

[EPA-HQ-OPP-2015-0614; FRL-9933-75]

Pesticides; Revised Fee Schedule for Registration Applications

AGENCY: Environmental Protection Agency (EPA).

ACTION: Notice.

SUMMARY: EPA is publishing a revised list of pesticide registration service fees applicable to specified pesticide applications and tolerance actions. Under the Pesticide Registration Improvement Extension Act, the registration service fees for covered pesticide registration applications received on or after October 1, 2015, increase by 5% rounding up to the nearest dollar from the fees published for fiscal year 2015. The new fees for FY'2016 become effective on October 1, 2015.

FOR FURTHER INFORMATION CONTACT: Peter Caulkins (7501P), Immediate Office, Office of Pesticide Programs, Environmental Protection Agency, 1200 Pennsylvania Ave. NW., Washington, DC 20460-0001; telephone number: (703) 305-6550; fax number: (703) 308-4776; email address: caulkins.peter@epa.gov.

SUPPLEMENTARY INFORMATION:

I. General Information

A. Does this action apply to me?

You may be potentially affected by this action if you register pesticide products under the Federal Insecticide, Fungicide, and Rodenticide Act (FIFRA). Potentially affected entities may include, but are not limited to:

• Agricultural pesticide manufacturers (NAICS code 32532).

• Antimicrobial pesticide manufacturers (NAICS code 32561).

• Antifoulant pesticide manufacturers (NAICS code 32551).

• Wood preservative manufacturers (NAICS code 32519).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in the notice and in FIFRA section 33. If you have any questions regarding the applicability of this action to a particular entity, consult the person listed under FOR FURTHER INFORMATION CONTACT.

B. How can I get copies of this document and other related information?

The docket for this action, identified by docket identification (ID) number EPA-HQ-OPP-2015-0614, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

A. What action is the agency taking?

The Pesticide Registration Improvement Act of 2003 established a new section 33 of FIFRA creating a registration service fee system for certain types of pesticide applications, establishment of tolerances, and certain other regulatory decisions under FIFRA and the Federal Food, Drug, and Cosmetic Act (FFDCA). Section 33 also created a schedule of decision review times for applications covered by the service fee system. The Agency began administering the registration service fee system for covered applications received on or after March 23, 2004.

On September 28, 2012, the Pesticide Registration Improvement Extension Act was signed by the President, revising, among other things, FIFRA section 33. The new law reauthorized the service fee system through fiscal year 2017 and established fees and review times for applications received during fiscal years 2013 through 2017. As required by section 33(b)(6)(A) of FIFRA, the registration service fees for covered pesticide registration applications received on or after October 1, 2015, increase by 5% rounding up to the nearest dollar from the fees published in the September 26, 2013, “Pesticides: Fee Schedule for Registration Applications,” FRN Vol. 78. No. 187 pp. 59347-59359.

B. What is the agency's authority for taking this action?

The publication of this fee schedule is required by section 33(b)(6)(C) of FIFRA as amended.

III. Elements of the Fee Schedule

This unit explains how to read the fee schedule tables, and includes a key to terminology published with the table.

A. The Pesticide Registration Improvement Extension Act Fee Schedule

The fee schedule published in the Pesticide Registration Improvement Extension Act of September 28, 2012, identifies the registration service fees and decision times and is organized according to the organizational units of the Office of Pesticide Programs (OPP) within EPA. Thereafter, the categories within the organizational unit sections of the table are further categorized according to the type of application being submitted, the use patterns involved, or, in some cases, upon the type of pesticide that is the subject of the application. The fee categories differ by Division. Not all application types are covered by, or subject to, the fee system.

B. Fee Schedule and Decision Review Times

In today's notice, EPA has retained the format of the tables included in the Pesticide Registration Improvement Extension Act of September 28, 2012. The schedules are presented as 19 tables, organized by OPP Division and by type of application or pesticide subject to the fee. Unit IV presents fee tables for the Registration Division (RD) (6 tables), the Antimicrobials Division (AD) (4 tables), the Biopesticides and Pollution Prevention Division (BPPD) (7 tables), Inert Ingredients (1 table), Miscellaneous (1 table).

C. How To Read the Tables

1. Each table consists of the following columns:

• The column titled “EPA No.” assigns an EPA identifier to each fee category. There are 189 categories spread across the 3 Divisions. There are 63 RD categories, 39 AD categories, 69 BPPD categories, 10 inert categories, and 8 miscellaneous categories. For tracking purposes, OPP has assigned a 3-digit identifier to each category, beginning with RD categories, followed by AD, BPPD, inert and miscellaneous categories. The categories are prefaced with a letter designation indicating which Division of OPP is responsible for applications in that category (R=Registration Division, A=Antimicrobials Division, B=Biopesticides and Pollution Prevention Division, I=inert ingredients, M=miscellaneous).

• The column titled “CR No.” cross-references the current Congressional Record category number for convenience. However, EPA will be using the categories as numbered in the “EPA No.” column in its tracking systems.

• The column titled “Action” ' describes what registration actions are covered by each category.

• The column titled “Decision Time” lists the decision times in months for each type of action.

• The column titled “FY' 2016/17 Registration Service Fee ($)” lists the registration service fee for the action for fiscal year 2016 (October 1, 2015 through September 30, 2016) and fiscal year 2017 (October 1, 2016 through September 30, 2017).

• Footnote text has been removed to save on Federal Register costs but remains unchanged from what was published in FY' 2013. The tables and footnote text will be available in full after October 1, 2015 at http://www.epa.gov/pesticides/regulating/fees/tool/category-table.html.

2. The following acronyms are used in some of the tables:

• DART—Dose Adequacy Response Team.

• DNT—Developmental Neurotoxicity.

• HSRB—Human Studies Review Board.

• GW/SW—Ground Water/Surface Water.

• PHI-Pre—Harvest Interval.

• PPE—Personal Protective Equipment.

• REI—Restricted Entry Interval.

• SAP—FIFRA Scientific Advisory Panel.

IV. PRIA Fee Schedule Tables—Effective October 1, 2015

A. Registration Division (RD)

The Registration Division of OPP is responsible for the processing of pesticide applications and associated tolerance petitions for pesticides that are termed “conventional chemicals,” excluding pesticides intended for antimicrobial uses. The term “conventional chemical” is a term of art that is intended to distinguish synthetic chemicals from those that are of naturally occurring or non-synthetic origin, synthetic chemicals that are identical to naturally occurring chemicals and microbial pesticides. Tables 1 through 6 cover RD actions.

Table 1—Registration Division—New Active Ingredients
EPA No. | New CR No. | Action | Decision review time (months) | FY '16/17 registration service fee ($)
R010 | 1 | New Active Ingredient, Food use | 24 | 627,568
R020 | 2 | New Active Ingredient, Food use; reduced risk | 18 | 627,568
R040 | 3 | New Active Ingredient, Food use; Experimental Use Permit application; establish temporary tolerance; submitted before application for registration; credit 45% of fee toward new active ingredient application that follows | 18 | 462,502
R060 | 4 | New Active Ingredient, Non-food use; outdoor | 21 | 436,004
R070 | 5 | New Active Ingredient, Non-food use; outdoor; reduced risk | 16 | 436,004
R090 | 6 | New Active Ingredient, Non-food use; outdoor; Experimental Use Permit application; submitted before application for registration; credit 45% of fee toward new active ingredient application that follows | 16 | 323,690
R110 | 7 | New Active Ingredient, Non-food use; indoor | 20 | 242,495
R120 | 8 | New Active Ingredient, Non-food use; indoor; reduced risk | 14 | 242,495
R121 | 9 | New Active Ingredient, Non-food use; indoor; Experimental Use Permit application; submitted before application for registration; credit 45% of fee toward new active ingredient application that follows | 18 | 182,327
R122 | 10 | Enriched isomer(s) of registered mixed-isomer active ingredient | 18 | 317,128
R123 | 11 | New Active Ingredient, Seed treatment only; includes agricultural and non-agricultural seeds; residues not expected in raw agricultural commodities | 18 | 471,861
R125 | 12 | New Active Ingredient, Seed treatment; Experimental Use Permit application; submitted before application for registration; credit 45% of fee toward new active ingredient application that follows | 16 | 323,690

Table 2—Registration Division—New Uses
EPA No. | New CR No. | Action | Decision review time (months) | FY '16/17 registration service fee ($)
R130 | 13 | First food use; indoor; food/food handling | 21 | 191,444
R140 | 14 | Additional food use; Indoor; food/food handling | 15 | 44,672
R150 | 15 | First food use | 21 | 264,253
R160 | 16 | First food use; reduced risk | 16 | 264,253
R170 | 17 | Additional food use | 15 | 66,124
R175 | 18 | Additional food uses covered within a crop group resulting from the conversion of existing approved crop group(s) to one or more revised crop groups. | 10 | 66,124
R180 | 19 | Additional food use; reduced risk | 10 | 66,124
R190 | 20 | Additional food uses; 6 or more submitted in one application | 15 | 396,742
R200 | 21 | Additional food use; 6 or more submitted in one application; reduced risk | 10 | 396,742
R210 | 22 | Additional food use; Experimental Use Permit application; establish temporary tolerance; no credit toward new use registration | 12 | 48,986
R220 | 23 | Additional food use; Experimental Use Permit application; crop destruct basis; no credit toward new use registration | 6 | 19,838
R230 | 24 | Additional use; non-food; outdoor | 15 | 26,427
R240 | 25 | Additional use; non-food; outdoor; reduced risk | 10 | 26,427
R250 | 26 | Additional use; non-food; outdoor; Experimental Use Permit application; no credit toward new use registration | 6 | 19,838
R251 | 27 | Experimental Use Permit application which requires no changes to the tolerance(s); non-crop destruct basis | 8 | 19,838
R260 | 28 | New use; non-food; indoor | 12 | 12,764
R270 | 29 | New use; non-food; indoor; reduced risk | 9 | 12,764
R271 | 30 | New use; non-food; indoor; Experimental Use Permit application; no credit toward new use registration | 6 | 9,725
R273 | 31 | Additional use; seed treatment; limited uptake into raw agricultural commodities; includes crops with established tolerances (e.g., for soil or foliar application); includes food and/or non-food uses | 12 | 50,445
R274 | 32 | Additional uses; seed treatment only; 6 or more submitted in one application; limited uptake into raw agricultural commodities; includes crops with established tolerances (e.g., for soil or foliar application); includes food and/or non-food uses | 12 | 302,663

Table 3—Registration Division—Import and Other Tolerances
EPA No. | New CR No. | Action | Decision review time (months) | FY '16/17— registration service fee ($)
R280 | 33 | Establish import tolerance; new active ingredient or first food use | 21 | 319,072
R290 | 34 | Establish Import tolerance; Additional new food use | 15 | 63,816
R291 | 35 | Establish import tolerances; additional food uses; 6 or more crops submitted in one petition | 15 | 382,886
R292 | 36 | Amend an established tolerance (e.g., decrease or increase); domestic or import; applicant-initiated | 11 | 45,341
R293 | 37 | Establish tolerance(s) for inadvertent residues in one crop; applicant-initiated | 12 | 53,483
R294 | 38 | Establish tolerances for inadvertent residues; 6 or more crops submitted in one application; applicant-initiated | 12 | 320,894
R295 | 39 | Establish tolerance(s) for residues in one rotational crop in response to a specific rotational crop application; applicant-initiated | 15 | 66,124
R296 | 40 | Establish tolerances for residues in rotational crops in response to a specific rotational crop petition; 6 or more crops submitted in one application; applicant-initiated | 15 | 396,742
R297 | 41 | Amend 6 or more established tolerances (e.g., decrease or increase) in one petition; domestic or import; applicant-initiated | 11 | 272,037
R298 | 42 | Amend an established tolerance (e.g., decrease or increase); domestic or import; submission of amended labels (requiring science review) in addition to those associated with the amended tolerance; applicant-initiated) | 13 | 58,565
R299 | 43 | Amend 6 or more established tolerances (e.g., decrease or increase); domestic or import; submission of amended labels (requiring science review) in addition to those associated with the amended tolerance; applicant-initiated) | 13 | 285,261

Table 4—Registration Division—New Products
EPA No. | New CR No. | Action | Decision review time (months) | FY'16/17 registration service fee ($)
R300 | 44 | New product; or similar combination product (already registered) to an identical or substantially similar in composition and use to a registered product; registered source of active ingredient; no data review on acute toxicity, efficacy or CRP—only product chemistry data; cite-all data citation, or selective data citation where applicant owns all required data, or applicant submits specific authorization letter from data owner Category also includes 100% re-package of registered end-use or manufacturing-use product that requires no data submission nor data matrix | 4 | 1,582
R301 | 45 | New product; or similar combination product (already registered) to an identical or substantially similar in composition and use to a registered product; registered source of active ingredient; selective data citation only for data on product chemistry and/or acute toxicity and/or public health pest efficacy, where applicant does not own all required data and does not have a specific authorization letter from data owner | 4 | 1,897
R310 | 46 | New end-use or manufacturing-use product with registered source(s) of active ingredient(s); includes products containing two or more registered active ingredients previously combined in other registered products; requires review of data package within RD only; includes data and/or waivers of data for only: Product chemistry and/or acute toxicity and/or public health pest efficacy and/or child resistant packaging | 7 | 5,301
R314 | 47 | New end use product containing two or more registered active ingredients never before registered as this combination in a formulated product; new product label is identical or substantially similar to the labels of currently registered products which separately contain the respective component active ingredients; requires review of data package within RD only; includes data and/or waivers of data for only: Product chemistry and/or acute toxicity and/or public health pest efficacy and/or child resistant packaging | 8 | 6,626
R315 | 48 | New end-use non-food animal product with submission of two or more target animal safety studies; includes data and/or waivers of data for only: Product chemistry and/or acute toxicity and/or public health pest efficacy and/or animal safety studies and/or child resistant packaging | 9 | 8,820
R320 | 49 | New product; new physical form; requires data review in science divisions | 12 | 13,226
R331 | 50 | New product; repack of identical registered end-use product as a manufacturing-use product; same registered uses only | 3 | 2,530
R332 | 51 | New manufacturing-use product; registered active ingredient; unregistered source of active ingredient; submission of completely new generic data package; registered uses only; requires review in RD and science divisions | 24 | 283,215
R333 | 52 | New product; MUP or End use product with unregistered source of active ingredient; requires science data review; new physical form; etc Cite-all or selective data citation where applicant owns all required data | 10 | 19,838
R334 | 53 | New product; MUP or End use product with unregistered source of the active ingredient; requires science data review; new physical form; etc Selective data citation | 11 | 19,838

Table 5—Registration Division—Amendments to Registration
EPA No. | New CR No. | Action | Decision review time (months) | FY'16/17 registration service fee ($)
R340 | 54 | Amendment requiring data review within RD (e.g., changes to precautionary label statements) | 4 | 3,988
R345 | 55 | Amending non-food animal product that includes submission of target animal safety data; previously registered | 7 | 8,820
R350 | 56 | Amendment requiring data review in science divisions (e.g., changes to REI, or PPE, or PHI, or use rate, or number of applications; or add aerial application; or modify GW/SW advisory statement) | 9 | 13,226
R351 | 57 | Amendment adding a new unregistered source of active ingredient | 8 | 13,226
R352 | 58 | Amendment adding already approved uses; selective method of support; does not apply if the applicant owns all cited data | 8 | 13,226
R371 | 59 | Amendment to Experimental Use Permit; (does not include extending a permit's time period) | 6 | 10,090

Table 6—Registration Division—Other Actions
EPA No. | New CR No. | Action | Decision review time (Months) | FY'16/17 registration service fee ($)
R124 | 60 | Conditional Ruling on Preapplication Study Waivers; applicant-initiated | 6 | 2,530
R272 | 61 | Review of Study Protocol applicant-initiated; excludes DART, pre-registration conference, Rapid Response review, DNT protocol review, protocol needing HSRB review | 3 | 2,530
R275 | 62 | Rebuttal of agency reviewed protocol, applicant initiated | 3 | 2,530
R370 | 63 | Cancer reassessment; applicant-initiated | 18 | 198,250

B. Antimicrobials Division (AD)

The Antimicrobials Division of OPP is responsible for the processing of pesticide applications and associated tolerances for conventional chemicals intended for antimicrobial uses, that is, uses that are defined under FIFRA section 2 (mm)(1)(A), including products for use against bacteria, protozoa, non-agricultural fungi, and viruses. AD is also responsible for a selected set of conventional chemicals intended for other uses, including most wood preservatives and antifoulants. Tables 7 through 10 cover AD actions.

Table 7—Antimicrobials Division—New Active Ingredients
EPA No. | New CR No. | Action | Decision review time (Months) | FY'16/17 registration service fee ($)
A380 | 64 | New Active Ingredient Food use, establish tolerance exemption | 24 | 114,867
A390 | 65 | New Active Ingredient Food use, establish tolerance | 24 | 191,444
A400 | 66 | New Active Ingredient, Non-food use, outdoor, FIFRA § 2 (mm) uses | 18 | 95,724
A410 | 67 | New Active Ingredient Non-food use, outdoor, uses other than FIFRA § 2(mm) | 21 | 191,444
A420 | 68 | New Active Ingredient Non-food use, indoor, FIFRA § 2(mm) uses | 18 | 63,816
A430 | 69 | New Active Ingredient, Non-Food Use Indoor, uses other than FIFRA § 2(mm) uses | 20 | 95,724
A431 | 70 | New Active Ingredient, Non-food use; indoor; low-risk; low-toxicity food grade active ingredient(s); efficacy testing for public health claims required under GLP and following DIS/TSS or AD-approved study protocol | 12 | 66,854

Table 8—Antimicrobials Division—New Uses
EPA No. | New CR No. | Action | Decision review time (Months) | FY'16/17 registration service fee ($)
A440 | 71 | New Use, First Food Use, establish tolerance exemption | 21 | 31,910
A450 | 72 | New use, First food use, establish tolerance | 21 | 95,724
A460 | 73 | New use, additional food use; establish tolerance exemption | 15 | 12,764
A470 | 74 | New use, additional food use, establish tolerance | 15 | 31,910
A471 | 75 | Additional food uses; establish tolerances; 6 or more submitted in one application | 15 | 191,452
A480 | 76 | New use, Additional use, non-food, outdoor; FIFRA § 2(mm) uses | 9 | 19,146
A481 | 77 | Additional non-food outdoor uses; FIFRA § 2(mm) uses; 6 or more submitted in one application | 9 | 114,870
A490 | 78 | New use, additional use, non-food, outdoor, uses other than FIFRA § 2(mm) | 15 | 31,910
A491 | 79 | Additional non-food; outdoor; uses other than FIFRA § 2(mm); 6 or more submitted in one application | 15 | 191,452
A500 | 80 | New use, additional use, non-food, indoor FIFRA § 2(mm) uses | 9 | 12,764
A501 | 81 | Additional non-food; indoor; FIFRA § 2(mm) uses; 6 or more submitted in one application | 9 | 76,583
A510 | 82 | New use, additional use, non-food, indoor, other than FIFRA § 2(mm) | 12 | 12,764
A511 | 83 | Additional non-food; indoor; uses other than FIFRA § 2(mm); 6 or more submitted in one application | 12 | 76,583

Table 9—Antimicrobials Division-New Products and Amendments
EPA No. | New CR No. | Action | Decision review time (Months) | FY'16/17 registration service fee ($)
A530 | 84 | New product, identical or substantially similar in composition and use to a registered product; no data review or only product chemistry data; cite all data citation or selective data citation where applicant owns all required data; or applicant submits specific authorization letter from data owner. Category also includes 100% re-package of registered end-use or manufacturing use product that requires no data submission nor data matrix | 4 | 1,278
A531 | 85 | New product; identical or substantially similar in composition and use to a registered product; registered source of active ingredient: Selective data citation only for data on product chemistry and/or acute toxicity and/or public health pest efficacy, where applicant does not own all required data and does not have a specific authorization letter from data owner | 4 | 1,824
A532 | 86 | New product; identical or substantially similar in composition and use to a registered product; registered active ingredient; unregistered source of active ingredient; cite-all data citation except for product chemistry; product chemistry data submitted | 5 | 5,107
A540 | 87 | New end use product; FIFRA § 2(mm) uses only (2) (3) | 5 | 5,107
A550 | 88 | New end-use product; uses other than FIFRA § 2(mm); non-FQPA product | 7 | 5,107
A560 | 89 | New manufacturing use product; registered active ingredient; selective data citation | 12 | 19,146
A570 | 90 | Label amendment requiring data review | 4 | 3,831
A572 | 91 | New Product or amendment requiring data review for risk assessment by Science Branch (e.g., changes to REI, or PPE, or use rate) | 9 | 13,226

Table 10—Antimicrobials Division—Experimental Use Permits and Other Type of Actions
EPA No. | New CR No. | Action | Decision review time (Months) | FY'16/17 registration service fee ($)
A520 | 92 | Experimental Use Permit application, non-food use | 9 | 6,383
A521 | 93 | Review of public health efficacy study protocol within AD, per AD Internal Guidance for the Efficacy Protocol Review Process; Code will also include review of public health efficacy study protocol and data review for devices making pesticidal claims; applicant-initiated; Tier 1 | 3 | 2,482
A522 | 94 | Review of public health efficacy study protocol outside AD by members of AD Efficacy Protocol Review Expert Panel; Code will also include review of public health efficacy study protocol and data review for devices making pesticidal claims; applicant-initiated; Tier 2. | 12 | 12,156
A523 | 101 | Review of protocol other than a public health efficacy study (i.e., Toxicology or Exposure Protocols) | 9 | 12,156
A524 | 95 | New Active Ingredient, Experimental Use Permit application; Food Use Requires Tolerance. Credit 45% of fee toward new active ingredient application that follows | 18 | 153,156
A525 | 96 | New Active Ingredient, Experimental Use Permit application; Food Use Requires Tolerance Exemption. Credit 45% of fee toward new active ingredient application that follows | 18 | 92,163
A526 | 97 | New Active Ingredient, Experimental Use Permit application; Non-Food, Outdoor Use. Credit 45% of fee toward new active ingredient application that follows | 15 | 95,724
A527 | 98 | New Active Ingredient, Experimental Use Permit application; Non-Food, Indoor Use. Credit 45% of fee toward new active ingredient application that follows | 15 | 63,945
A528 | 99 | Experimental Use Permit application, Food Use; Requires Tolerance or Tolerance Exemption | 15 | 22,337
A529 | 100 | Amendment to Experimental Use Permit; requires data review or risk assessment | 9 | 11,429
A571 | 102 | Science reassessment: Cancer risk, refined ecological risk, and/or endangered species; applicant-initiated | 18 | 95,724

C. Biopesticides and Pollution Prevention Division (BPPD)

The Biopesticides and Pollution Prevention Division of OPP is responsible for the processing of pesticide applications for biochemical pesticides, microbial pesticides, and plant-incorporated protectants (PIPs).

The fee tables for BPPD actions are presented by type of pesticide rather than by type of action: Microbial and biochemical pesticides, straight chain lepidopteran pheromones (SCLPs), and PIPs. Within each table, the types of application are the same as those in other divisions. Tables 11 through 17 cover BPPD actions.

Table 11—Biopesticides and Pollution Prevention Division—Microbial and Biochemical Pesticides; New Active Ingredients
EPA No. | New CR No. | Action | Decision review time (months) | FY'16/17 registration service fee ($)
B580 | 103 | New active ingredient; food use; petition to establish a tolerance | 19 | 51,053
B590 | 104 | New active ingredient; food use; petition to establish a tolerance exemption | 17 | 31,910
B600 | 105 | New active ingredient; non-food use | 13 | 19,146
B610 | 106 | New active ingredient; Experimental Use Permit application; petition to establish a temporary tolerance or temporary tolerance exemption | 10 | 12,764
B611 | 107 | New active ingredient; Experimental Use Permit application; petition to establish permanent tolerance exemption | 12 | 12,764
B612 | 108 | New active ingredient; no change to a permanent tolerance exemption | 10 | 17,550
B613 | 109 | New active ingredient; petition to convert a temporary tolerance or a temporary tolerance exemption to a permanent tolerance or tolerance exemption | 11 | 17,550
B620 | 110 | New active ingredient; Experimental Use Permit application; non-food use including crop destruct | 7 | 6,383

Table 12—Biopesticides and Pollution Prevention Division—Microbial and Biochemical Pesticides; New Uses
EPA No. | New CR No. | Action | Decision review time (months) | FY '16/17 registration service fee ($)
B630 | 111 | First food use; petition to establish a tolerance exemption | 13 | 12,764
B631 | 112 | New food use; petition to amend an established tolerance | 12 | 12,764
B640 | 113 | New food use; petition to amend an established tolerance | 19 | 19,146
B642 | 115 | First food use; indoor; food/food handling | 12 | 31,910
B643 | 114 | New Food use; petition to amend tolerance exemption | 10 | 12,764
B644 | 116 | New use, no change to an established tolerance or tolerance exemption | 8 | 12,764
B650 | 117 | New use; non-food | 7 | 6,383

Table 13—Biopesticides and Pollution Prevention Division—Microbial and Biochemical Pesticides; New Products
EPA No. | New CR No. | Action | Decision review time (months) | FY '16/17 registration service fee ($)
B652 | 118 | New product; registered source of active ingredient; requires petition to amend established tolerance or tolerance exemption; requires (1) submission of product specific data; or (2) citation of previously reviewed and accepted data; or (3) submission or citation of data generated at government expense; or (4) submission or citation of scientifically-sound rationale based on publicly available literature or other relevant information that addresses the data requirement; or (5) submission of a request for a data requirement to be waived supported by a scientifically-sound rationale explaining why the data requirement does not apply | 13 | 12,764
B660 | 119 | New product; registered source of active ingredient(s); identical or substantially similar in composition and use to a registered product; no change in an established tolerance or tolerance exemption No data review, or only product chemistry data; cite-all data citation, or selective data citation where applicant owns all required data or authorization from data owner is demonstrated Category includes 100% re-package of registered end-use or manufacturing-use product that requires no data submission or data matrix For microbial pesticides, the active ingredient(s) must not be re-isolated | 4 | 1,278
B670 | 120 | New product; registered source of active ingredient(s); no change in an established tolerance or tolerance exemption; requires: (1) Submission of product specific data; or (2) citation of previously reviewed and accepted data; or (3) submission or citation of data generated at government expense; or (4) submission or citation of a scientifically-sound rationale based on publicly available literature or other relevant information that addresses the data requirement; or (5) submission of a request for a data requirement to be waived supported by a scientifically-sound rationale explaining why the data requirement does not apply | 7 | 5,107
B671 | 121 | New product; unregistered source of active ingredient(s); requires a petition to amend an established tolerance or tolerance exemption; requires: (1) Submission of product specific data; or (2) citation of previously reviewed and accepted data; or (3) submission or citation of data generated at government expense; or (4) submission or citation of a scientifically-sound rationale based on publicly available literature or other relevant information that addresses the data requirement; or (5) submission of a request for a data requirement to be waived supported by a scientifically-sound rationale explaining why the data requirement does not apply | 17 | 12,764
B672 | 122 | New product; unregistered source of active ingredient(s); non-food use or food use with a tolerance or tolerance exemption previously established for the active ingredient(s); requires: (1) Submission of product specific data; or (2) citation of previously reviewed and accepted data; or (3) submission or citation of data generated at government expense; or (4) submission or citation of a scientifically-sound rationale based on publicly available literature or other relevant information that addresses the data requirement; or (5) submission of a request for a data requirement to be waived supported by a scientifically-sound rationale explaining why the data requirement does not apply | 13 | 9,118
B673 | 123 | New product MUP/EP; unregistered source of active ingredient(s); citation of Technical Grade Active Ingredient (TGAI) data previously reviewed and accepted by the Agency Requires an Agency determination that the cited data supports the new product | 10 | 5,107
B674 | 124 | New product MUP; Repack of identical registered end-use product as a manufacturing-use product; same registered uses only | 4 | 1,278
B675 | 125 | New Product MUP; registered source of active ingredient; submission of completely new generic data package; registered uses only | 10 | 9,118
B676 | 126 | New product; more than one active ingredient where one active ingredient is an unregistered source; product chemistry data must be submitted; requires: (1) Submission of product specific data, and (2) citation of previously reviewed and accepted data; or (3) submission or citation of data generated at government expense; or (4) submission or citation of a scientifically-sound rationale based on publicly available literature or other relevant information that addresses the data requirement; or (5) submission of a request for a data requirement to be waived supported by a scientifically-sound rationale explaining why the data requirement does not apply | 13 | 9,118
B677 | 127 | New end-use non-food animal product with submission of two or more target animal safety studies; includes data and/or waivers of data | 10 | 8,820

Table 14—Biopesticides and Pollution Prevention Division—Microbial and Biochemical Pesticides; Amendments
EPA No. | New CR No. | Action | Decision review time (months) | FY '16/17 registration service fee ($)
B621 | 128 | Amendment; Experimental Use Permit; no change to an established temporary tolerance or tolerance exemption | 7 | 5,107
B622 | 129 | Amendment; Experimental Use Permit; petition to amend an established or temporary tolerance or tolerance exemption | 11 | 12,764
B641 | 130 | Amendment of an established tolerance or tolerance exemption | 13 | 12,764
B680 | 131 | Amendment; registered source of active ingredient(s); no new use(s); no changes to an established tolerance or tolerance exemption Requires data submission | 5 | 5,107
B681 | 132 | Amendment; unregistered source of active ingredient(s) Requires data submission | 7 | 6,079
B683 | 133 | Label amendment; requires review/update of previous risk assessment(s) without data submission (eg., labeling changes to REI, PPE, PHI) | 6 | 5,107
B684 | 134 | Amending non-food animal product that includes submission of target animal safety data; previously registered | 8 | 8,820

Table 15—Biopesticides and Pollution Prevention Division—Straight Chain Lepidopteran Pheromones (SCLPS)
EPA No. | New CR No. | Action | Decision review time (months) | FY '16/17 registration service fee ($)
B690 | 135 | New active ingredient; food or non-food use | 7 | 2,554
B700 | 136 | Experimental Use Permit application; new active ingredient or new use | 7 | 1,278
B701 | 137 | Extend or amend Experimental Use Permit | 4 | 1,278
B710 | 138 | New product; registered source of active ingredient(s); identical or substantially similar in composition and use to a registered product; no change in an established tolerance or tolerance exemption No data review, or only product chemistry data; cite-all data citation, or selective data citation where applicant owns all required data or authorization from data owner is demonstrated Category includes 100% re-package of registered end-use or manufacturing-use product that requires no data submission or data matrix | 4 | 1,278
B720 | 139 | New product; registered source of active ingredient(s); requires: (1) Submission of product specific data; or (2) citation of previously reviewed and accepted data; or (3) submission or citation of data generated at government expense; or (4) submission or citation of a scientifically-sound rationale based on publicly available literature or other relevant information that addresses the data requirement; or (5) submission of a request for a data requirement to be waived supported by a scientifically-sound rationale explaining why the data requirement does not apply | 5 | 1,278
B721 | 140 | New product; unregistered source of active ingredient | 7 | 2,676
B722 | 141 | New use and/or amendment; petition to establish a tolerance or tolerance exemption | 7 | 2,477
B730 | 142 | Label amendment requiring data submission | 5 | 1,278

Table 16—Biopesticides and Pollution Prevention Division—Other Actions
EPA No. | New CR No. | Action | Decision review time (months) | FY '16/17 registration service fee ($)
B614 | 143 | Conditional Ruling on Preapplication Study Waivers; applicant-initiated | 3 | 2,530
B615 | 144 | Rebuttal of agency reviewed protocol, applicant initiated | 3 | 2,530
B682 | 145 | Protocol review; applicant initiated; excludes time for HSRB review | 3 | 2,432

Table 17—Biopesticides and Pollution Prevention Division—Plant Incorporated Protectants (PIPS)
EPA No. | New CR No. | Action | Decision review time (months) | FY '16/17 registration service fee ($)
B740 | 146 | Experimental Use Permit application; no petition for tolerance/tolerance exemption. Includes: Non-food/feed use(s) for a new or registered PIP; food/feed use(s) for a new or registered PIP with crop destruct; food/feed use(s) for a new or registered PIP in which an established tolerance/tolerance exemption exists for the intended use(s) | 6 | 95,724
B750 | 147 | Experimental Use Permit application; with a petition to establish a temporary or permanent tolerance/tolerance exemption for the active ingredient. Includes new food/feed use for a registered PIP | 9 | 127,630
B770 | 148 | Experimental Use Permit application; new PIP; with petition to establish a temporary tolerance/tolerance exemption for the active ingredient; credit 75% of B771 fee toward registration application for a new active ingredient that follows; SAP review | 15 | 191,444
B771 | 149 | Experimental Use Permit application; new PIP; with petition to establish a temporary tolerance/tolerance exemption for the active ingredient; credit 75% of B771 fee toward registration application for a new active ingredient that follows | 10 | 127,630
B772 | 150 | Application to amend or extend an Experimental Use Permit; no petition since the established tolerance/tolerance exemption for the active ingredient is unaffected | 3 | 12,764
B773 | 151 | Application to amend or extend an Experimental Use Permit; with petition to extend a temporary tolerance/tolerance exemption for the active ingredient | 5 | 31,910
B780 | 152 | Registration application; new PIP; non-food/feed | 12 | 159,537
B790 | 153 | Registration application; new PIP; non-food/feed; SAP review | 18 | 223,351
B800 | 154 | Registration application; new PIP; with petition to establish permanent tolerance/tolerance exemption for the active ingredient based on an existing temporary tolerance/tolerance exemption | 12 | 255,324
B810 | 155 | Registration application; new PIP; with petition to establish permanent tolerance/tolerance exemption for the active ingredient based on an existing temporary tolerance/tolerance exemption. SAP review | 18 | 319,072
B820 | 156 | Registration application; new PIP; with petition to establish or amend a permanent tolerance/tolerance exemption of an active ingredient | 15 | 319,072
B840 | 157 | Registration application; new PIP; with petition to establish or amend a permanent tolerance/tolerance exemption of an active ingredient. SAP review | 21 | 382,886
B851 | 158 | Registration application; new event of a previously registered PIP active ingredient(s); no petition since permanent tolerance/tolerance exemption is already established for the active ingredient(s) | 9 | 127,630
B870 | 159 | Registration application; registered PIP; new product; new use; no petition since a permanent tolerance/tolerance exemption is already established for the active ingredient(s) | 9 | 38,290
B880 | 160 | Registration application; registered PIP; new product or new terms of registration; additional data submitted; no petition since a permanent tolerance/tolerance exemption is already established for the active ingredient(s) | 9 | 31,910
B881 | 161 | Registration application; registered PIP; new product or new terms of registration; additional data submitted; no petition since a permanent tolerance/tolerance exemption is already established for the active ingredient(s). SAP review | 15 | 95,724
B883 | 162 | Registration application; new PIP, seed increase with negotiated acreage cap and time-limited registration; with petition to establish a permanent tolerance/tolerance exemption for the active ingredient based on an existing temporary tolerance/tolerance exemption | 9 | 127,630
B884 | 163 | Registration application; new PIP, seed increase with negotiated acreage cap and time-limited registration; with petition to establish a permanent tolerance/tolerance exemption for the active ingredient | 12 | 159,537
B885 | 164 | Registration application; registered PIP, seed increase; breeding stack of previously approved PIPs, same crop; no petition since a permanent tolerance/tolerance exemption is already established for the active ingredient(s) | 9 | 95,724
B890 | 165 | Application to amend a seed increase registration; converts registration to commercial registration; no petition since permanent tolerance/tolerance exemption is already established for the active ingredient(s) | 9 | 63,816
B891 | 166 | Application to amend a seed increase registration; converts registration to a commercial registration; no petition since a permanent tolerance/tolerance exemption already established for the active ingredient(s); SAP review | 15 | 127,630
B900 | 167 | Application to amend a registration, including actions such as extending an expiration date, modifying an IRM plan, or adding an insect to be controlled | 6 | 12,764
B901 | 168 | Application to amend a registration, including actions such as extending an expiration date, modifying an IRM plan, or adding an insect to be controlled. SAP review | 12 | 76,578
B902 | 169 | PIP Protocol review | 3 | 6,383
B903 | 170 | Inert ingredient tolerance exemption; e.g., a marker such as NPT II; reviewed in BPPD | 6 | 63,816
B904 | 171 | Import tolerance or tolerance exemption; processed commodities/food only (inert or active ingredient) | 9 | 127,630

Table 18—Inert Ingredients
EPA No. | New CR No. | Action | Decision review time (months) | FY '16/17 registration service fee ($)
I001 | 172 | Approval of new food use inert ingredient | 12 | 19,845
I002 | 173 | Amend currently approved inert ingredient tolerance or exemption from tolerance; new data | 10 | 5,513
I003 | 174 | Amend currently approved inert ingredient tolerance or exemption from tolerance; no new data | 8 | 3,308
I004 | 175 | Approval of new non-food use inert ingredient | 8 | 11,025
I005 | 176 | Amend currently approved non-food use inert ingredient with new use pattern; new data | 8 | 5,513
I006 | 177 | Amend currently approved non-food use inert ingredient with new use pattern; no new data | 6 | 3,308
I007 | 178 | Approval of substantially similar non-food use inert ingredients when original inert is compositionally similar with similar use pattern | 4 | 1,654
I008 | 179 | Approval of new polymer inert ingredient, food use | 5 | 3,749
I009 | 180 | Approval of new polymer inert ingredient, non food use | 4 | 3,087
I010 | 181 | Petition to amend a tolerance exemption descriptor to add one or more CASRNs; no new data | 6 | 1,654

Table 19—Miscellaneous Actions
EPA No. | New CR No. | Action | Decision review time (months) | FY '16/17 registration service fee ($)
M001 | 182 | Study protocol requiring Human Studies Review Board review as defined in 40 CFR Part 26 in support of an active ingredient | 9 | 7,938
M002 | 183 | Completed study requiring Human Studies Review Board review as defined in 40 CFR Part 26 in support of an active ingredient | 9 | 7,938
M003 | 184 | External technical peer review of new active ingredient, product, or amendment (e.g., consultation with FIFRA Scientific Advisory Panel) for an action with a decision timeframe of less than 12 months. Applicant initiated request based on a requirement of the Administrator, as defined by FIFRA § 25(d), in support of a novel active ingredient, or unique use pattern or application technology. Excludes PIP active ingredients | 12 | 63,945
M004 | 185 | External technical peer review of new active ingredient, product, or amendment (e.g., consultation with FIFRA Scientific Advisory Panel) for an action with a decision timeframe of greater than 12 months. Applicant initiated request based on a requirement of the Administrator, as defined by FIFRA § 25(d), in support of a novel active ingredient, or unique use pattern or application technology. Excludes PIP active ingredients | 18 | 63,945
M005 | 186 | New Product: Combination, Contains a combination of active ingredients from a registered and/or unregistered source; conventional, antimicrobial and/or biopesticide. Requires coordination with other regulatory divisions to conduct review of data, label and/or verify the validity of existing data as cited. Only existing uses for each active ingredient in the combination product | 9 | 22,050
M006 | 187 | Request for up to 5 letters of certification (Gold Seal) for one actively registered product | 1 | 277
M007 | 188 | Request to extend Exclusive Use of data as provided by FIFRA Section 3(c)(1)(F)(ii) | 12 | 5,513
M008 | 189 | Request to grant Exclusive Use of data as provided by FIFRA Section 3(c)(1)(F)(vi) for a minor use, when a FIFRA Section 2(ll)(2) determination is required | 10 | 1,654

V. How To Pay Fees

Applicants must submit fee payments at the time of application, and EPA will reject any application that does not contain evidence that the fee has been paid. EPA has developed a Web site at http://www.epa.gov/pesticides/fees/tool/index.htm to help applicants identify the fee category and the fee. All fees should be rounded up to the whole dollar. Due to changes mandated by the U.S. Department of the Treasury, checks, bank drafts and money orders are no longer acceptable as of September 30, 2015. Credit card payments are only acceptable for amounts less than or equal to $25,000. All payments above $25,000 can be made by electronic funds transfer via www.pay.gov.

A. Online

You may pay electronically through the government payment Web site www.pay.gov.

1. From the pay.gov home page, under “Find Public Forms.”

2. Select “search by Agency name.”

3. On the A-Z Index of Forms page, select “E.”

4. Select “Environmental Protection Agency.”

5. From the list of forms, select “Pre-payment of Pesticide Registration Improvement Act Fee.”

6. Complete the form entering the PRIA fee category and fee.

7. Keep a copy of the pay.gov acknowledgement of payment. A copy of the acknowledgement must be printed and attached to the front of the application to assure that EPA can match the application with the payment.

VI. How To Submit Applications

Submissions to the Agency should be made at the address given in Unit VII. The applicant should attach documentation that the fee has been paid which in most cases will be pay.gov payment acknowledgement. If the applicant is applying for a fee waiver, the applicant should provide sufficient documentation as described in FIFRA section 33(b)(7) and http://www.epa.gov/pesticides/fees/questions/waivers.htm. The fee waiver request should be easy to identify and separate from the rest of the application and submitted with documentation that at least 25% of the fee has been paid.

If evidence of fee payment (electronic acknowledgement) is not submitted with the application, EPA will reject the application and will not process it further.

After EPA receives an application and payment, EPA performs a screen on the application to determine that the category is correct and that the proper fee amount has been paid. If either is incorrect, EPA will notify the applicant and require payment of any additional amount due. A refund will be provided in case of an overpayment. EPA will not process the application further until the proper fee has been paid for the category of application or a request for a fee waiver accompanies the application and the appropriate portion of the fee has been paid.

EPA will assign a unique identification number to each covered application for which payment has been made. EPA notifies the applicant of the unique identification number. This information is sent by email if EPA has either an email address on file or an email address is provided on the application.

VII. Addresses for Applications

New covered applications should be identified in the title line with the mail code REGFEE.

• By U.S. Postal Service mail. Document Processing Desk (REGFEE), Office of Pesticide Programs (7504P), U.S. Environmental Protection Agency, 1200 Pennsylvania Avenue NW., Washington, DC 20460-0001.

• By courier. Document Processing Desk (REGFEE), Office of Pesticide Programs, U.S. Environmental Protection Agency, Room S-4400, One Potomac Yard (South Bldg.), 2777 S. Crystal Drive, Arlington, VA 22202-4501.

Couriers and delivery personnel must present a valid picture identification card to gain access to the building. Hours of operation for the Document Processing Desk are 8 a.m. to 4:30 p.m., Monday through Friday, excluding Federal holidays.

List of Subjects

Environmental protection, Administrative practice and procedure, Pesticides.

Dated: September 15, 2015.
Marty Monell,
Acting Director, Office of Pesticide Programs.

[FR Doc. 2015-24064 Filed 9-21-15; 8:45 am]

BILLING CODE 6560-50-P